DEPARTMENT OF HOMELAND SECURITY

Coast Guard

[Docket No. USCG-2011-0137]

Notice of Public Meeting To Prepare for the 55th Session of the International Maritime Organization's Sub-Committee on Ship Design and Equipment (DE) To Be Held March 21 Through 25, 2011

AGENCY: Coast Guard, DHS.

ACTION: Notice of meeting.

SUMMARY: The United States Coast Guard will conduct a public meeting starting at 9:30 a.m. on Thursday, March 17, 2011, in Room 6103 of the United States Coast Guard Headquarters Building, 2100 Second Street, SW., Washington, DC, 20593-7126. The primary purpose of the meeting is to prepare for the 55th session of the International Maritime Organization's Sub-Committee on Ship Design and Equipment (DE) to be held at the International Maritime Organization in London, United Kingdom from March 21 through 25, 2011.

DATES: This public meeting will be held beginning at 9:30 a.m., Eastern Time, on Thursday, March 17, 2011.

ADDRESSES: The public meeting will be held in Room 6103 of the United States Coast Guard Headquarters Transpoint building in Washington DC. The Transpoint building is located at 2100 Second Street, Southwest, in Washington, DC, approximately 1 mile from the Southwest-SEU Metro Station. Send written material and requests to make oral presentations to Mr. Wayne Lundy, Commandant (CG-5213), U.S. Coast Guard Headquarters, 2100 Second Street, SW., Room 1300, Washington, DC 20593-7126, by calling (202) 372-1379, or by e-mailing Mr. Lundy at Wayne.M.Lundy@uscg.mil. This notice may be viewed in our online docket, USCG-2011-0137, at http://www.regulations.gov.

FOR FURTHER INFORMATION CONTACT: For additional information about this public meeting you may contact Mr. Wayne Lundy by telephone at 202-372-1379 or by e-mail at Wayne.M.Lundy@uscg.mil.

SUPPLEMENTARY INFORMATION: The primary matters to be considered include:

—Safety provisions applicable to tenders operating from passenger ships

—Performance standards for recovery systems for all types of ships

—Guidelines for a visible element to general alarm systems on passenger ships

—Making the provisions of MSC.1/Circ.1206/Rev.1 mandatory

—Guidelines for the standardization of lifeboat control arrangements

—Development of new framework of requirements for life-saving appliances

—Amendments to Assembly Resolution A.744(18)

—Supporting guidelines for cargo oil tank coating and corrosion protection

—Development of a mandatory Code for ships operating in polar waters

—Revision of resolution A.760(18)

—Protection against noise on board ships

—Noise from commercial shipping and its adverse impacts on marine life

—Classification of offshore industry vessels and consideration of the need for a Code for offshore construction support vessels

—Consideration of IACS unified interpretations

—Measures to promote integrated bilge water treatment systems

—Revision of resolution MEPC.159(55)

—Revision of testing requirements for lifejacket RTDs.

Hard copies of documents associated with the 55th session of DE will be available at this meeting. To request further copies of documents please write to the address provided below.

Members of the public may attend this meeting up to the seating capacity of the room and may submit comments. Those who wish to submit comments or seek additional information about the meeting may contact Mr. Wayne Lundy, Commandant (CG-5213), U.S. Coast Guard Headquarters, 2100 Second Street, SW., Room 1300, Washington, DC 20593-7126, by telephone (202) 372-1379 or e-mail Wayne.M.Lundy@uscg.mil.

Information on Services for Individuals With Disabilities

For information on facilities or services for individuals with disabilities or to request special assistance at the meeting, contact Mr. Wayne Lundy at (202) 372-1379 or by e-mail at Wayne.M.Lundy@uscg.mil as soon as possible.

Dated: March 1, 2011.
J. G. Lantz,
Director of Commercial Regulations and Standards.

[FR Doc. 2011-4976 Filed 3-3-11; 8:45 am]

BILLING CODE 9110-04-P